NUCLEAR REGULATORY COMMISSION

[NRC-2010-0180]

Notice of Availability of NUREG-1950: ``Disposition of Public Comments and Technical Bases for Changes in the License Renewal Guidance Documents NUREG-1801 and NUREG-1800''

AGENCY: Nuclear Regulatory Commission (NRC).

ACTION: Issuance of NUREG-1950, ``Disposition of Public Comments and Technical Bases for Changes in the License Renewal Guidance Documents NUREG-1801 and NUREG-1800.''

SUMMARY: The NRC staff is issuing NUREG-1950, ``Disposition of Public Comments and Technical Bases for Changes in the License Renewal Guidance Documents NUREG-1801 and NUREG-1800.'' This document is a knowledge management transfer document associated with Revision 2 of NUREG-1801, “Generic Aging Lessons Learned (GALL) Report,” and Revision 2 of NUREG-1800, “Standard Review Plan for Review of License Renewal Applications for Nuclear Power Plants.”

The technical changes that were made when revising the guidance contained in NUREG-1801 are captured in this document, along with the supporting technical bases. Changes to NUREG-1800, many of which derive from the changes in NUREG-1801, are also discussed in this document. Consequently, this document provides an understanding of the underlying rationale used by the NRC to develop Revisions 2 of NUREG-1801 and NUREG-1800.

This document also contains the NRC staff's analysis of the public comments received on the Draft Revisions 2 of both the GALL Report and the Standard Review Plan for License Renewal (SRP-LR), published for public comment in May 2010 (75 FR 27838), with the public comment period expiring on July 2, 2010. The disposition of the comments accepted by the NRC staff and used as basis for instituting a change to either the GALL Report or the SRP-LR are detailed in this document. In addition, the public comments that did not result in a change to either NUREG are also dispositioned, and a technical basis for the staff's handling of these comments is presented.

ADDRESSES: Electronic copies are available in the Commission's Public Document Room (PDR). The public may examine and have copied, for a fee, publicly available documents at the NRC's PDR, Room O1-F21, One White Flint North, 11555 Rockville Pike, Rockville, Maryland 20852. Copies are also available from the NRC's Agencywide Documents Access and Management System (ADAMS). Publicly available documents created or received at the NRC are available online in the NRC's Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The NUREG-1950, is under ADAMS Accession Number ML11116A062.

FOR FURTHER INFORMATION CONTACT: Mr. Robert Gramm, License Renewal Project Manager, Office of Nuclear Reactor Regulation, Mail Stop O-11F1, U.S. Nuclear Regulatory Commission, Washington, DC 20555-0001, telephone (301) 415-1010, or by e-mail Robert.Gramm@nrc.gov.

Dated at Rockville, Maryland, this 5th day of May 2011.
For the Nuclear Regulatory Commission.
Melanie A. Galloway,
Deputy Director, Division of License Renewal, Office of Nuclear Reactor Regulation.

[FR Doc. 2011-11829 Filed 5-12-11; 8:45 am]

BILLING CODE 7590-01-P